NATIONAL SCIENCE FOUNDATION

Advisory Committee for Engineering; Notice of Meeting

In accordance with the Federal Advisory Committee Act (Pub. L. 92-463, as amended), the National Science Foundation (NSF) announces the following meeting:

Name and Committee Code: Advisory Committee for Engineering (1170) (Hybrid).

Date and Time: April 25, 2023; 10:00 a.m.-5:00 p.m. (Eastern), April 26, 2023; 8:00 a.m.-12:00 p.m. (Eastern).

Place: NSF, 2415 Eisenhower Avenue, Alexandria, VA 22314/Hybrid (In-person and Virtual).

Type of Meeting: Open.

Contact Persons: Don Millard, National Science Foundation, 2415 Eisenhower Avenue, Alexandria, VA 22314; Telephone: (703) 292-8300.

Additional meeting information, an updated agenda, and registration information will be posted on the advisory committee website at https://www.nsf.gov/eng/advisory.jsp.

Purpose of Meeting: To provide advice, recommendations and counsel on major goals and policies pertaining to engineering programs and activities.

Agenda

Tuesday, April 25, 2023; 10:00 a.m.-5:00 p.m. (Eastern)

Directorate for Engineering Report

National Academies report on Advancing Antiracism, Diversity, Equity, and Inclusion in STEMM Organizations: Beyond Broadening Participation

CHIPS and Science Act: Semiconductor Update

Teach Engineering Update

Strategic Recommendations for ENG

Preparation for Discussion with the Director's Office

Wednesday, April 26, 2023; 8:00 a.m.-12:00 p.m. (Eastern)

NSF Budget Update

Reports from Advisory Committee Liaisons

Engineering Research Visioning Alliance Update

Preparation for Discussion with the Director's Office

Perspective from the Director's Office

Strategic Recommendations for ENG

Dated: March 23, 2023.
Crystal Robinson,
Committee Management Officer.

[FR Doc. 2023-06362 Filed 3-27-23; 8:45 am]

BILLING CODE 7555-01-P